ENVIRONMENTAL PROTECTION AGENCY

[FRL-9721-1]

Meeting of the National Drinking Water Advisory Council

AGENCY: Environmental Protection Agency.

ACTION: Notice of a public meeting.

SUMMARY: The U.S. Environmental Protection Agency (EPA or agency) is announcing a meeting of the National Drinking Water Advisory Council (NDWAC or Council), established under the Safe Drinking Water Act (SDWA). This meeting was originally scheduled (and announced in a Federal Register notice) for September 12 and 13, 2012, in Chicago, Illinois. While the meeting will still be held in Chicago, it will now be held on October 4 and 5, 2012. The Council will consider various issues associated with drinking water protection and public water systems. Specifically, the primary focus will be for the Council to consult with EPA regarding perchlorate and a National Primary Drinking Water Rule for this contaminant under the SDWA. Also at this meeting, the Council will discuss other program issues.

DATES: The meeting on October 4, 2012, will be held from 8:30 a.m. to 5:00 p.m., Central Time, and on October 5, 2012, from 8:30 a.m. to 3:00 p.m., Central Time.

ADDRESSES: The meeting will be held at EPA's Chicago Regional Office (EPA Region 5) at the Ralph Metcalfe Federal Building, 77 West Jackson Blvd., Chicago, IL 60604-3590 and will be open to the public. All attendees must go through a metal detector, sign in with the security desk, and show government issued photo identification to enter government buildings.

FOR FURTHER INFORMATION CONTACT: Members of the public who would like to register and receive pertinent information, present an oral statement or submit a written statement for the October 4 and 5 meeting should contact Roy Simon, by September 15; by email at Simon.Roy@epa.gov; by phone at 202-564-3868; or by regular mail at U.S. Environmental Protection Agency, Office of Ground Water and Drinking Water (MC 4601M), 1200 Pennsylvania Avenue NW., Washington, DC 20460. Further details about participating in the meeting can be found in the SUPPLEMENTARY INFORMATION section.

SUPPLEMENTARY INFORMATION: This meeting was originally scheduled (and announced in a Federal Register notice on June 11, 2012 (77 FR 34382) for September 12 and 13, 2012, in Chicago, Illinois. While the meeting will still be held in Chicago, it will now be held on October 4 and 5, 2012.

Details about Participating in the Meeting: If you wish to attend the meeting, you should provide your email address when you register. The EPA will provide updated information on the October meeting to registered individuals and organizations as the date of the meeting gets closer. The Council will allocate one hour for the public's input (1:00 p.m.-2:00 p.m., Central Time) at the meeting on October 5, 2012. Oral statements will be limited to five minutes at the meeting. It is preferred that only one person present the statement on behalf of a group or organization. To ensure adequate time for public involvement, individuals or organizations interested in presenting an oral statement should notify Roy Simon no later than September 15, 2012. Any person who wishes to file a written statement can do so before or after a Council meeting. Written statements received for the meeting must be received by September 28, 2012 to be distributed to all members of the Council before any final discussion or vote is completed. Any statements received on or after the date just specified for the meeting will become part of the permanent file for the meeting and will be forwarded to the Council members for their information.

National Drinking Water Advisory Council: The Council was created by Congress on December 16, 1974, as part of the Safe Drinking Water Act (SDWA) of 1974, Public Law 93-523, 42 U.S.C. 300j-5, and is operated in accordance with the provisions of the Federal Advisory Committee Act (FACA), 5 U.S.C. App.2. The Council was established under the SDWA to provide practical and independent advice, consultation and recommendations to the EPA Administrator on the activities, functions, policies, and regulations required by the SDWA.

Special Accommodations: For information on access or services for individuals with disabilities, please contact Roy Simon at 202-564-3868 or by email at Simon.Roy@epa.gov. To request accommodation of a disability, please contact Roy Simon at least 10 days prior to the meeting to give EPA as much time as possible to process your request.

Dated: August 20, 2012.
Pamela Barr,
Acting Director, Office of Ground Water and Drinking Water.

[FR Doc. 2012-21233 Filed 8-27-12; 8:45 am]

BILLING CODE 6560-50-P